DEPARTMENT OF TRANSPORTATION

Office of the Secretary

Availability of the 2005 Federal Radionavigation Plan

AGENCY: Office of the Assistant Secretary for Transportation Policy, DOT.

ACTION: Notice of Availability of the 2005 Federal Radionavigation Plan.

SUMMARY: The 2005 edition of the Federal Radionavigation Plan (FRP) has been published and is available for comment. All comments, concerns, and suggestions regarding the current policies and plans in the 2005 FRP will be considered in formulation of the 2007 FRP. The policies in the 2005 FRP focus on transition to GPS based services, recognizing the need to maintain backup navigation aids and provide redundant radionavigation service where required. The FRP is the official source of radionavigation policy and planning for the Federal Government, as directed by the National Defense Authorization Act for Fiscal Year 1998 (10 U.S.C. 2281(c)). It is prepared jointly by the U.S. Departments of Defense (DoD), U.S. Department of Transportation (DOT), and Homeland Security (DHS) with the assistance of other government agencies. This edition of the FRP updates and replaces the 2001 FRP and covers common-use radionavigation systems (i.e., systems used by both civil and military sectors). Systems used exclusively by the military are covered in the Chairman, Joint Chiefs of Staff (CJCS) Master Positioning, Navigation, and Timing Plan (MPNTP). The FRP includes the introduction, policies, operating plans, system selection considerations, and research and development sections. The companion document entitled Federal Radionavigation Systems (FRS) contains information on government roles and responsibilities, user requirements, and systems descriptions, and is published separately from the FRP. The FRS is periodically updated as necessary.

DATES: Comments must be received by July 31 for consideration in development of the 2007 FRP.

ADDRESSES: Comments should be forwarded to Chairman, DOT POS/NAV Working Group, U.S. Department of Transportation, Navigation and Spectrum Policy (P-50), Room 6423-F, 400 7th Street, SW., Washington, DC 20590. E-mail: John.Augustine@dot.gov.

FOR FURTHER INFORMATION CONTACT: John Augustine, U.S. Department of Transportation, Navigation and Spectrum Policy (P-50), 400 7th Street, SW., Washington, DC 20590, (202) 366-0353.

SUPPLEMENTARY INFORMATION: Copies of the 2005 FRP can be obtained at: http://www.navcen.uscg.gov.

Issued in Washington, DC on February 10, 2006.
Tyler D. Duvall,
Acting Assistant Secretary for Transportation Policy.

[FR Doc. E6-2413 Filed 2-17-06; 8:45 am]

BILLING CODE 4910-62-P